ENVIRONMENTAL PROTECTION AGENCY

[FRL-7160-7]

Notice of Final Decision To Grant Vickery Environmental, Incorporated a Modification of an Exemption From the Land Disposal Restrictions of the Hazardous and Solid Waste Amendments of 1984 Regarding Injection of Hazardous Wastes

AGENCY: Environmental Protection Agency (EPA).

ACTION: Notice of final decision on a request to modify an exemption from the Hazardous and Solid Waste Amendments of the Resource Conservation and Recovery Act.

SUMMARY: Notice is hereby given by the Environmental Protection Agency (EPA or Agency) that a modification of an exemption to the land disposal restrictions under the 1984 Hazardous and Solid Waste Amendments to the Resource Conservation and Recovery Act (RCRA) has been granted to Vickery Environmental, Inc. (VEI) of Vickery, Ohio. This modification allows VEI to continue to inject three (3) RCRA-regulated hazardous wastes which will be banned from land disposal on May 20, 2002, as a result of regulations promulgated in the Federal Register (FR) on November 20, 2001 (66 FR 58258), into four Class I injection wells at the Vickery, Ohio, facility. As required by 40 CFR part 148, VEI has demonstrated, to a reasonable degree of certainty, that there will be no migration of hazardous constituents from the injection zone utilized by VEI's waste disposal facility located near Vickery, Ohio, for as long as the newly-exempted wastes remain hazardous. This decision constitutes a final Agency action for which there is no administrative appeal.

DATES: This action is effective as of May 20, 2002.

FOR FURTHER INFORMATION CONTACT: Harlan Gerrish, Lead Petition Reviewer, USEPA, Region 5, telephone (312) 886-2939. Copies of the petition and all pertinent information relating thereto are on file and are part of the Administrative Record. It is recommended that you contact the lead reviewer prior to reviewing the Administrative record.

SUPPLEMENTARY INFORMATION:

I. Background

Chemical Waste Management (CWM), the predecessor of VEI, submitted a petition for an exemption from the restrictions on land disposal of hazardous wastes on January 19, 1988. Revised documents were received on December 4, 1989, and several supplemental submittals were subsequently made. The exemption was granted on August 7, 1990. On September 12, 1994, CWM submitted a petition to modify the exemption to include wastes bearing 23 additional RCRA wastes codes. Region 5 reviewed documents supporting the request and granted the modification of the exemption on May 16, 1995. A notice of the modification appeared on June 5, 1995, at 60 FR 29592 et seq. On April 9, 1996, CWM submitted a petition to again modify the exemption to allow 91 additional RCRA waste codes. Region 5 reviewed documents supporting the request and granted the modification on the exemption on June 24, 1996. A notice of the modification appeared on July 15, 1996, at 61 FR 36880 et seq. Again on May 13, 1997, CWM submitted a request to add 11 waste codes to the list. Region 5 reviewed the evidence submitted by CWM and granted the request. Notice of the approval appeared on August 12, 1997 (63 FR 43109). On October 13, 1997, CWM notified the EPA that the name of the operator of the Vickery facility would become Waste Management of Ohio (WMO). This change was acknowledged by EPA through a letter added to the Administrative Record on November 10, 1997. On August 28, 1998, WMO requested that two additional wastes codes be approved for injection. Notice of the approval appeared on December 10, 1998 (63 FR 68284). In the same year, on November 5, 1998, WMO submitted a petition to exempt four additional waste codes. Approval of this petition appeared on February 10, 1999 (64 FR 6650). On January 24, 2000, Waste Management of Ohio informed EPA of a corporate reorganization and subsequent name change from Waste Management of Ohio to Vickery Environmental, Inc. This change was acknowledged by EPA through a letter added to the Administrative Record on March 9, 2000. On March 20, 2001, VEI requested that two wastes, designated as K174 and K175, be added to the list of wastes exempted for injection at VEI. This request was approved on May 23, 2001, and notice of the request appeared in the Federal Register on April 25, 2001 (66 FR 28464-28466).

The rule promulgated on November 20, 2001, bans K176, K177, and K178 from injection after May 20, 2002, unless VEI's exemption is modified to allow injection of those wastes. As K-coded wastes, the codes represent a number of chemicals, all of which have already been approved for injection at Vickery under other waste codes. After review of the material submitted, the EPA has determined, as required by 40 CFR 148.20(f), that there is a reasonable degree of certainty that the hazardous constituents contained in the wastes bearing the codes to be banned will behave hydraulically and chemically like wastes for which VEI was granted its original exemption and will not migrate from the injection zone in hazardous concentrations within 10,000 years. The injection zone is the Mt. Simon Sandstone and the Rome, Conasauga, Kerbel, and Knox Formations. The confining zone is comprised of the Wells Creek and Black River Formations.

List of RCRA Waste Codes Approved for Injection
D001 | F010 | K035 | K115 | P016 | P076 | P201 | U050 | U106 | U158 | U215 | U389
D002 | F011 | K036 | K116 | P017 | P077 | P202 | U051 | U107 | U159 | U216 | U390
D003 | F012 | K037 | K117 | P018 | P078 | P203 | U052 | U108 | U160 | U217 | U391
D004 | F019 | K038 | K118 | P020 | P081 | P204 | U053 | U109 | U161 | U218 | U392
D005 | F020 | K039 | K123 | P021 | P082 | P205 | U055 | U110 | U162 | U219 | U393
D006 | F021 | K040 | K124 | P022 | P084 | U001 | U056 | U111 | U163 | U220 | U394
D007 | F022 | K041 | K125 | P023 | P085 | U002 | U057 | U112 | U164 | U221 | U395
D008 | F023 | K042 | K126 | P024 | P087 | U003 | U058 | U113 | U165 | U222 | U396
D009 | F024 | K043 | K131 | P026 | P088 | U004 | U059 | U114 | U166 | U223 | U400
D010 | F025 | K044 | K132 | P027 | P089 | U005 | U060 | U115 | U167 | U225 | U401
D011 | F026 | K045 | K136 | P028 | P092 | U006 | U061 | U116 | U168 | U226 | U402
D012 | F027 | K046 | K140 | P029 | P093 | U007 | U062 | U117 | U169 | U227 | U403
D013 | F028 | K047 | K141 | P030 | P094 | U008 | U063 | U118 | U170 | U228 | U404
D014 | F032 | K048 | K142 | P031 | P095 | U009 | U064 | U119 | U171 | U234 | U407
D015 | F034 | K049 | K143 | P033 | P096 | U010 | U066 | U120 | U172 | U235 | U408
D016 | F035 | K050 | K144 | P034 | P097 | U011 | U067 | U121 | U173 | U236 | U409
D017 | F037 | K051 | K145 | P036 | P098 | U012 | U068 | U122 | U174 | U237 | U410
D018 | F038 | K052 | K147 | P037 | P099 | U014 | U069 | U123 | U176 | U238 | U411
D019 | F039 | K060 | K148 | P038 | P101 | U015 | U070 | U124 | U177 | U239
D020 | K001 | K061 | K149 | P039 | P102 | U016 | U071 | U125 | U178 | U240
D021 | K002 | K062 | K150 | P040 | P103 | U017 | U072 | U126 | U179 | U243
D022 | K003 | K069 | K151 | P041 | P104 | U018 | U073 | U127 | U180 | U244
D023 | K004 | K071 | K156 | P042 | P105 | U019 | U074 | U128 | U181 | U246
D024 | K005 | K073 | K157 | P043 | P106 | U020 | U075 | U129 | U182 | U247
D025 | K006 | K083 | K158 | P044 | P108 | U021 | U076 | U130 | U183 | U248
D026 | K007 | K084 | K159 | P045 | P109 | U022 | U077 | U131 | U184 | U249
D027 | K008 | K085 | K160 | P046 | P110 | U023 | U078 | U132 | U185 | U271
D028 | K009 | K086 | K161 | P047 | P111 | U024 | U079 | U133 | U186 | U277
D029 | K010 | K087 | K169 | P048 | P112 | U025 | U080 | U134 | U187 | U278
D030 | K011 | K088 | K170 | P049 | P113 | U026 | U081 | U135 | U188 | U279
D031 | K013 | K093 | K171 | P050 | P114 | U027 | U082 | U136 | U189 | U280
D032 | K014 | K094 | K172 | P051 | P115 | U028 | U083 | U137 | U190 | U328
D033 | K015 | K095 | K174 | P054 | P116 | U029 | U084 | U138 | U191 | U353
D034 | K016 | K096 | K175 | P056 | P118 | U030 | U085 | U139 | U192 | U359
D035 | K017 | K097 | K176 | P057 | P119 | U031 | U086 | U140 | U193 | U364
D036 | K018 | K098 | K177 | P058 | P120 | U032 | U087 | U141 | U194 | U365
D037 | K019 | K099 | K178 | P059 | P121 | U033 | U088 | U142 | U196 | U366
D038 | K020 | K100 | P001 | P060 | P122 | U034 | U089 | U143 | U197 | U367
D039 | K021 | K101 | P002 | P062 | P123 | U035 | U090 | U144 | U200 | U372
D040 | K022 | K102 | P003 | P063 | P127 | U036 | U091 | U145 | U201 | U373
D041 | K023 | K103 | P004 | P064 | P128 | U037 | U092 | U146 | U202 | U375
D042 | K024 | K104 | P005 | P065 | P185 | U038 | U093 | U147 | U203 | U376
D043 | K025 | K105 | P006 | P066 | P188 | U039 | U094 | U148 | U204 | U377
F001 | K026 | K106 | P007 | P067 | P189 | U041 | U095 | U149 | U205 | U378
F002 | K027 | K107 | P008 | P068 | P190 | U042 | U096 | U150 | U206 | U379
F003 | K028 | K108 | P009 | P069 | P191 | U043 | U097 | U151 | U207 | U381
F004 | K029 | K109 | P010 | P070 | P192 | U044 | U098 | U152 | U208 | U382
F005 | K030 | K110 | P011 | P071 | P194 | U045 | U099 | U153 | U209 | U383
F006 | K031 | K111 | P012 | P072 | P196 | U046 | U101 | U154 | U210 | U384
F007 | K032 | K112 | P013 | P073 | P197 | U047 | U102 | U155 | U211 | U385
F008 | K033 | K113 | P014 | P074 | P198 | U048 | U103 | U156 | U213 | U386
F009 | K034 | K114 | P015 | P075 | P199 | U049 | U105 | U157 | U214 | U387

II. Conditions

General conditions of this exemption are found at 40 CFR part 148. The exemption granted to VEI on August 7, 1990, included a number of specific conditions. Conditions numbered (1), (2), (3), (4), and (9) remain in force. Construction of a monitoring well required under condition 5 has been completed, and the required monitoring will continue through the life of the facility. Conditions numbered (6), (7), and (8) have been fully satisfied. The results of the work carried out under these conditions confirms that the model used to simulate fluid movement within the injection zone for the next 10,000 years is valid and results of the simulation bound the region of the injection zone within which the waste will be contained.

Timothy C. Henry,
Acting Director, Water Division, Region 5.

[FR Doc. 02-10418 Filed 4-26-02; 8:45 am]

BILLING CODE 6560-50-P